DEPARTMENT OF HEALTH AND HUMAN SERVICES

National Institutes of Health

Submission for OMB Review; Comment Request; The Effectiveness of the NIH Curriculum Supplements and Workshops Survey

SUMMARY: Under the provisions of Section 3507(a)(1)(D) of the Paperwork Reduction Act of 1995, the Office of the Director, Office of Science Policy, Office of Science Education, National Institutes of Health has submitted to the Office of Management and Budget (OMB) a request for review and approval of the information collection listed below. This proposed information collection has not been previously published in the Federal Register. The purpose of this notice is to allow 30 days for public comment. The National Institutes of Health may not conduct or sponsor, and the respondent is not required to respond to, an information collection that has been extended, revised, or implemented on or after October 1, 1995, unless it displays a currently valid OMB number.

Proposed Collection: Title: The Effectiveness of the NIH Curriculum Supplements and Workshops Survey. Information Collection Request: NEW. New and Use of Information Collection: The survey will attempt to assess the effectiveness of the NIH curriculum supplements in aiding teachers to teach science in a more engaging and interactive way. The supplements help k-12 educators teach science in more engaging and effective ways by featuring the latest NIH research. A typical supplement contains two weeks of student activities on the science behind a health topic, such as cancer, sleep or obesity. Web-based simulations, animations and experiments enhance the “pencil and paper” activities. In addition to developing and distributing the supplements, OSE conducts professional workshops to help teachers successfully implement these lessons with their students. Since January 2000, over 3,000 teachers have attended an OSE workshop.

Assessing the effectiveness of the NIH Curriculum Supplements and teacher workshops is critical to determining if OSE is successfully fulfilling its mission. OSE has the database infrastructure in place to easily collect customer satisfaction data from supplement requests and workshops attendees. At present, we do not have clearance to contact our customers to determine how NIH resources are meeting their educational needs.

Burden Estimates
Type of respondent: survey title | Number of respondents | Frequency of response | Ave. time per response | Hour burden/yr
Teacher: supplement requestor survey | 9,000 | 1 | 0.17 | 500
Teacher: focus group participant | 60 | 1 | 2.0 | 120
Teacher: workshop short survey | 1,300 | 1 | 0.17 | 220
Teacher: workshop long survey | 260 | 1 | 0.5 | 130
Teacher: Career video requestor | 500 | 1 | 0.17 | 85
Teacher: Career poster requestor | 585 | 1 | 0.17 | 100
Total | 11,735 |  |  | 1,155

Request for Comments: Written comments and/or suggestions from the public and affected agencies are invited on one or more of the following points: (1) Whether the proposed collection of information is necessary for the proper performance of the function of the agency, including whether the information will have practical utility; (2) ways to enhance the quality,utility, and clarity of the information to be collected; and (3) ways to minimize the burden of the collection of information on those who are to respond, including the use of appropriate automated, electronic, mechanical, or other technological collection techniques or other forms of information technology.

Direct Comments to OMB: Written comments and/or suggestions regarding the item(s) contained in this notice should be directed to the: Office of Management and Budget, Office of Regulatory Affairs, New Executive Office Building, Room 10235, Washington, DC 20502, Attention: Desk Officer for NIH. To request more information on the proposed project or to obtain a copy of the data collection plans and survey, contact: Dr. David Vannier, Office of Science Education, 6705 Rockledge Drive, Suite 700, Bethesda, MD 20817, or call 301-496-8741, or e-mail you request including your address to: vannierd@od.nih.gov.

Comments Due Date: Comments regarding this information collection are best assured of having their full effect if received with 30 days of the date of this publication.

Dated: July 12, 2005.
Cassandra Isom,
Program Administrator, Office of Science Education, National Institutes of Health.

[FR Doc. 05-14421 Filed 7-20-05; 8:45 am]

BILLING CODE 4140-01-M